DEPARTMENT OF JUSTICE

Drug Enforcement Administration

Manufacturer of Controlled Substances; Notice of Registration; S & B Pharma Inc.

By Notice dated May 31, 2012, and published in the Federal Register on June 8, 2012, 77 FR 34073, S & B Pharma Inc., 405 South Motor Avenue, Azusa, California 91702-3232, made application to the Drug Enforcement Administration (DEA) to be registered as a bulk manufacturer of the following basic classes of controlled substances:

Drug | Schedule
Gamma Hydroxybutyric Acid (2010) | I
Tetrahydrocannabinols (7370) | I
Methamphetamine (1105) | II
Pentobarbital (2270) | II
Nabilone (7379) | II

The company plans to manufacture bulk controlled substances for use in product development and for distribution to its customers.

No comments or objections have been received. DEA has considered the factors in 21 U.S.C. 823(a), and determined that the registration of S & B Pharma Inc., to manufacture the listed basic classes of controlled substances is consistent with the public interest at this time. DEA has investigated S & B Pharma Inc., to ensure that the company's registration is consistent with the public interest. The investigation has included inspection and testing of the company's physical security systems; verification of the company's compliance with state and local laws; and a review of the company's background and history.

Therefore, pursuant to 21 U.S.C. 823(a), and in accordance with 21 CFR 1301.33, the above named company is granted registration as a bulk manufacturer of the basic classes of controlled substances listed.

Dated: April 17, 2013.
Joseph T. Rannazzisi,
Deputy Assistant Administrator, Office of Diversion Control, Drug Enforcement Administration.

[FR Doc. 2013-09532 Filed 4-22-13; 8:45 am]

BILLING CODE 4410-09-P